DEPARTMENT OF ENERGY

Federal Energy Regulatory Commission

Notice of Meeting

September 15, 2010.

The Federal Energy Regulatory Commission (Commission) hereby gives notice that members of its staff may attend the meeting noted below. The meeting will be hosted by Entergy Arkansas, Inc. (EAI) and will examine, among other things, steps by EAI in exploring future successor arrangements. Their attendance is part of the Commission's ongoing outreach efforts.

September 23, 2010 (9:30 a.m.-4 p.m.), Embassy Suites Hotel, 11301 Financial Center Parkway, Little Rock, AR 72211, 501-312-9000.

The discussions may address matters at issue in the following proceedings:

Docket No. OA07-32 | Entergy Services, Inc.
Docket No. OA08-59 | Entergy Services, Inc.
Docket No. EL00-66 | Louisiana Public Service Commission v. Entergy Services, Inc.
Docket No. EL01-88 | Louisiana Public Service Commission v. Entergy Services, Inc.
Docket No. EL05-15 | Arkansas Electric Cooperative Corp. v. Entergy Arkansas, Inc.
Docket No. EL07-52 | Louisiana Public Service Commission v. Entergy Services, Inc.
Docket No. EL08-51 | Louisiana Public Service Commission v. Entergy Services, Inc.
Docket No. EL08-60 | Ameren Services Co. v. Entergy Services, Inc.
Docket No. EL09-43 | Arkansas Public Service Commission v. Entergy Services, Inc.
Docket No. EL09-61 | Louisiana Public Service Commission v. Entergy Services, Inc.
Docket No. EL09-78 | South Mississippi Electric Power Association v. Entergy Services, Inc.
Docket No. EL10-55 | Louisiana Public Service Commission v. Entergy Services, Inc.
Docket No. EL10-65 | Louisiana Public Service Commission v. Entergy Services, Inc.
Docket No. ER05-1065 | Entergy Services, Inc.
Docket No. ER07-682 | Entergy Services, Inc.
Docket No. ER07-956 | Entergy Services, Inc.
Docket No. ER08-767 | Entergy Services, Inc.
Docket No. ER08-1056 | Entergy Services, Inc.
Docket No. ER08-1057 | Entergy Services, Inc.
Docket No. ER09-636 | Entergy Services, Inc.
Docket No. ER09-833 | Entergy Services, Inc.
Docket No. ER09-877 | Entergy Services, Inc.
Docket No. ER09-882 | Entergy Services, Inc.
Docket No. ER09-1214 | Entergy Services, Inc.
Docket No. ER09-1224 | Entergy Services, Inc.
Docket No. ER10-794 | Entergy Services, Inc.
Docket No. ER10-879 | Entergy Services, Inc.
Docket No. ER10-984 | Entergy Services, Inc.
Docket No. ER10-1350 | Entergy Services, Inc.
Docket No. ER10-2246 | Entergy Services, Inc.
Docket No. ER10-2247 | Entergy Services, Inc.
Docket No. ER10-2267 | Entergy Services, Inc.
Docket No. ER10-2292 | Entergy Services, Inc.
Docket No. ER10-2299 | Entergy Services, Inc.

These meetings are open to the public.

For more information, contact Patrick Clarey, Office of Energy Market Regulation, Federal Energy Regulatory Commission at (317) 249-5937 or patrick.clarey@ferc.gov.

Kimberly D. Bose,
Secretary.

[FR Doc. 2010-23627 Filed 9-21-10; 8:45 am]

BILLING CODE 6717-01-P